FEDERAL COMMUNICATIONS COMMISSION

47 CFR Part 73

[DA 04-972; MB Docket No. 04-12; RM-10834]

Radio Broadcasting Services; Littleville and Russellville, AL

AGENCY: Federal Communications Commission.

ACTION: Final rule.

SUMMARY: This document reallots Channel 278A from Russellville, Alabama, to Littleville, Alabama, and modifies the license for Station WMXV to specify operation Channel 278A at Littleville, Alabama, in response to a petition filed by Clear Channel Broadcasting Licenses, Inc. See 69 FR 6239, February 10, 2004. The coordinates for Channel 278A at Littleville are 34-35-44 and 87-40-47. See SUPPLEMENTARY INFORMATION.

DATES: Effective June 4, 2004.

FOR FURTHER INFORMATION CONTACT: Kathleen Scheuerle, Media Bureau, (202) 418-2180.

SUPPLEMENTARY INFORMATION: This is a summary of the Commission's Report and Order, MB Docket No. 04-12, adopted April 12, 2004, and released April 14, 2004. The full text of this Commission decision is available for inspection and copying during regular business hours in the FCC's Reference Information Center, Portals II, 445 12th Street, SW., Room CY-A257, Washington, DC 20554. The complete text of this decision may also be purchased from the Commission's duplicating contractor, Natek, Inc., Portals II, 445 12th Street, SW., Room CY-B402, Washington, DC 20554, telephone 202-863-2893. In MM Docket No. 01-62, Station WKGL was ordered to specify operation on Channel 278A in lieu of Channel 249A at Russelville, Alabama, to which the FM Table of Allotments was not amended to reflect this change. See Ardmore, AL et al., 17 FCC Rcd 16332. Thereafter, Station WKGL was granted a license (BMLH-20030415ACF), which implemented this change.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by adding Littleville, Channel 278A and by removing Russellville, Channel 249A.

Federal Communications Commission.
John A. Karousos,
Assistant Chief, Audio Division, Media Bureau.

[FR Doc. 04-10575 Filed 5-7-04; 8:45 am]

BILLING CODE 6712-01-P